DEPARTMENT OF HOMELAND SECURITY

Federal Emergency Management Agency

44 CFR Part 67

[Docket No. FEMA-B-7786]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before September 18, 2008.

ADDRESSES: The corresponding preliminary Flood Insurance Rate Map (FIRM) for the proposed BFEs for each community are available for inspection at the community's map repository. The respective addresses are listed in the table below.

You may submit comments, identified by Docket No. FEMA-B-7786, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Lauderdale County, Alabama, and Incorporated Areas
Tennessee River (Navigation Channel) | Approximately 981 feet upstream of the intersection of Sweetwater Creek and XS B of Tennessee River | +431 | +432 | City of Florence.
| Approximately 2238 feet upstream of the intersection of Tennessee River and XS D of Tennessee River | +431 | +435
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Florence
Maps are available for inspection at 110 West College Street, Florence, AL 35630.
Leavenworth County, Kansas, and Incorporated Areas
Stranger Creek | At Highway 32 | +798 | +796 | Unincorporated Areas of Leavenworth County, City of Easton, City of Linwood.
| At Tonganoxie Road | None | +842
| At Millwood Road | None | +914
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Easton
Maps are available for inspection at City Hall, 300 W. Riley, Easton, KS 66020.
City of Linwood
Maps are available for inspection at City Hall, 306 Main Street, Linwood, KS 66052.
Unincorporated Areas of Leavenworth County
Maps are available for inspection at Leavenworth County Courthouse, 4th and Walnut, Leavenworth, KS 66048.
Vermilion Parish, Louisiana, and Incorporated Areas
Gulf of Mexico | Base Flood Elevation changes ranging from 10 to 13 feet in the form of AE and VE zones have been made | +11 | +10-13 | Town of Erath.
Gulf of Mexico | Base Flood Elevation changes ranging from 9 to 11 feet in the form of AE and VE zones have been made | +9-11 | +9-11 | Town of Delcambre.
Gulf of Mexico | Base Flood Elevation changes of 7 feet in the form of VE zones have been made | None | +7 | Town of Gueydan.
Gulf of Mexico | Base Flood Elevations changes ranging from 11 to 18 feet in the form of AE and VE zones have been made | +11-19 | +11-18 | Unincorporated Areas of Vermilion Parish.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Town of Erath
Maps are available for inspection at 115 West Edwards Street, Erath, LA 70533.
Town of Delcambre
Maps are available for inspection at 107 North Railroad, Delcambre, LA 70528.
Town of Gueydan
Maps are available for inspection at 600 Main Street, Gueydan, LA 70542.
Unincorporated Areas of Vermilion Parish
Maps are available for inspection at 100 N. State Street, Suite 200, Abbeville, LA 70510.
Bristol County, Massachusetts, and Incorporated Areas
Buzzards Bay | Approximately 1,650 feet East of intersection of River Road and Redwing Lane | +13 | +24 | Town of Dartmouth, Town of Westport.
| Approximately 875 feet south from end of Club House Drive | +31 | +24
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Town of Dartmouth
Maps are available for inspection at Town Hall, 400 Slocum Road, Dartmouth, MA 02747.
Town of Westport
Maps are available for inspection at Town Hall, 816 Main Road, Westport, MA 02790.
Plymouth County, Massachusetts, and Incorporated Areas
Atlantic Ocean | Approximately 150 feet south of intersection of Brant Beach Avenue and Ocean View Avenue | +17 | +19 | Town of Hull, Town of Mattapoisett.
| Approximately 210 feet southeast of intersection of Highland Avenue and Mount Pleasant Way | +9 | +33
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Town of Hull
Maps are available for inspection at Town Hall, 253 Atlantic Avenue, Hull, MA 02045.
Town of Mattapoisett
Maps are available for inspection at Town Hall, 16 Main Street, Mattapoisett, MA 02739.

(Catalog of Federal Domestic Assistance No. 97.022, “Flood Insurance.”)

Dated: June 10, 2008.
David I. Maurstad,
Federal Insurance Administrator of the National Flood Insurance Program, Department of Homeland Security, Federal Emergency Management Agency.

[FR Doc. E8-13932 Filed 6-19-08; 8:45 am]

BILLING CODE 9110-12-P